DEPARTMENT OF AGRICULTURE

Agricultural Marketing Service

[Docket Number FV-06-318]

United States Standards for Grades of Pineapples

AGENCY: Agricultural Marketing Service, USDA.

ACTION: Notice.

SUMMARY: The Agricultural Marketing Service (AMS), prior to undertaking research and other work associated with revising official grade standards, is soliciting comments on the possible revisions of the United States Standards for Grades of Pineapples. AMS has been reviewing the Fresh Fruit and Vegetable grade standards for usefulness in serving the industry. As a result, AMS has identified the United States Standards for Grades of Pineapples for possible revision.

AMS is proposing to revise the tolerances by replacing Table I Shipping Point and Table II En Route or at Destination with numerical tolerances. These tables utilize acceptance numbers of fruit with maximum numbers of defective permitted. These changes would simplify the inspection process and bring the pineapple standard in line with other standards which use numerical tolerances for defects. AMS is seeking comments regarding these proposed changes that may be necessary to better serve the industry.

DATES: Comments must be received by November 20, 2006.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, e-mail FPB.DocketClerk@usda.gov. Comments should make reference to the dates and page number of this issue of the Federal Register and will be made available for public inspection in the above office during regular business hours. The United States Standards for Grades of Pineapples are available either at the above address or by accessing the AMS, Fresh Products Branch Web site at: http://www.ams.usda.gov/standards/stanfrfv.htm.

FOR FURTHER INFORMATION CONTACT: Cheri L. Emery, at the above address or call (202) 720-2185; e-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA, AMS, Fruit and Vegetable Programs.

AMS is considering revisions to the voluntary United States Standards for Grades of Pineapples using procedures that appear in Part 36, Title 7 of the Code of Federal Regulations (7 CFR part 36). These standards were last revised on July 5, 1990.

Background

AMS has been reviewing the Fresh Fruit and Vegetable grade standards for usefulness in serving the industry. AMS has identified the United States Standards for Grades of Pineapples for possible revision. Prior to undertaking detailed work to develop the proposed revisions to the standards, AMS is soliciting comments on the proposed revisions, to the United States Standards for Grades of Pineapples that may be necessary to better serve the industry.

AMS is proposing to revise the tolerances by replacing Table I Shipping Point and Table II En Route or at Destination with numerical tolerances. These tables utilize acceptance numbers of fruit with maximum numbers of defective permitted. These changes would simplify the inspection process and bring the pineapple standard in line with other standards which use numerical tolerances for defects.

This notice provides for a 60-day comment period for interested parties to comment on the proposed changes to the United States Standards for Grades of Pineapples. Should AMS conclude that revisions are needed, it will develop a proposed revised standard that will be published in the Federal Register with a request for comments in accordance with 7 CFR part 36.

Authority: 7 U.S.C. 1621-1627.

Dated: September 14, 2006.
Lloyd C. Day,
Administrator, Agricultural Marketing Service.

[FR Doc. 06-7820 Filed 9-20-06; 8:45 am]

BILLING CODE 3410-02-P